DEPARTMENT OF TRANSPORTATION

Federal Railroad Administration

[Docket Number FRA-2014-0044]

Petition for Waiver of Compliance

In accordance with Part 211 of Title 49 of the Code of Federal Regulations (CFR), this document provides the public notice that by a document dated May 5, 2014, Rouge Valley Terminal Railroad Corporation (RVTC) petitioned the Federal Railroad Administration (FRA) for a waiver of compliance from certain provisions of the Federal railroad safety regulations contained at 49 CFR Part 223, Safety Glazing Standards—Locomotives, Passenger Cars, and Cabooses. FRA assigned the petition Docket Number FRA-2014-0044.

RVTC petitioned for a waiver of compliance for one locomotive from the requirements of 49 CFR 223.11, Requirements for existing locomotives, which requires certified glazing in all locations. The subject locomotive is a leased EMD Model SW1 Locomotive built in 1949 and bearing the number WRIX 1001. This locomotive is operated over 9.5 miles of RVTC track and 2 miles of Central Oregon and Pacific Railroad track (for interchange of freight cars), all within the Medford Industrial Park in White City, OR. Speeds do not exceed 10 mph. It is equipped with glazing that meets an ASI rating of AS-1. This locomotive operates over the same trackage under glazing waiver FRA-2008-0106, issued to former operator White City Terminal and Utility Railway, for the last 5 years with no incidents of vandalism to the glazing or any other railroad property. This new waiver petition was necessitated by a change in corporate ownership. RVTC also cites economic conditions in its request to continue use of the locomotive as presently equipped. A copy of the petition, as well as any written communications concerning the petition, is available for review online at www.regulations.gov and in person at the U.S. Department of Transportation's (DOT) Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 7, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Issued in Washington, DC, on June 17, 2014.
Ron Hynes,
Director, Office of Safety Assurance and Compliance.

[FR Doc. 2014-14526 Filed 6-20-14; 8:45 am]

BILLING CODE 4910-06-P